DEPARTMENT OF HOMELAND SECURITY

Coast Guard

46 CFR Part 175

[Docket No. USCG-2023-0243]

RIN 1625-AC88

DUKW Amphibious Passenger Vessels

Correction

In rule document 2023-19421, appearing on pages 62295-62301 in the issue of Monday, September 11, 2023, make the following correction:

PART 175—GENERAL PROVISIONS [Corrected]

On page 62300, in the third column, beginning in the second line from the bottom of the page and continuing into the first three lines, in the first column of page 62301, “Authority: 46 U.S.C. 2103, 3205, 3306, 3703; Pub. L. 103-206, 107 Stat. 2439; 49 U.S.C. App. 1804; DHS Delegation 00170.1, Revision No. 01.2, paragraph (II)(92)(a); § 175.900 also issued under 44 U.S.C. 3507.” should read “Authority: 46 U.S.C. 2103, 3205, 3306, 3703; Pub. L. 103-206, 107 Stat. 2439; 49 U.S.C. 5103; DHS Delegation 00170.1, Revision No. 01.3, paragraph (II)(92)(a); § 175.900 also issued under 44 U.S.C. 3507.”

[FR Doc. C1-2023-19421 Filed 10-4-23; 8:45 am]

BILLING CODE 0099-10-P